DEPARTMENT OF THE INTERIOR

National Park Service

[NPS-WASO-NAGPRA-NPS0034194; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and associated funerary objects and has determined that there is a cultural affiliation between the human remains and associated funerary objects and Indian Tribes or Native Hawaiian organizations in this notice. The human remains and associated funerary objects were removed from DeSoto, Lee, Tunica, Union, and/or Coahoma counties in MS.

DATES: Repatriation of the human remains and associated funerary objects in this notice may occur on or after August 15, 2022.

ADDRESSES: Meg Cook, Director of Archaeology Collections, Mississippi Department of Archives and History, Museum Division, 222 North Street, P.O. Box 571, Jackson, MS 39205, telephone (601) 576-6927, email mcook@mdah.ms.gov.

SUPPLEMENTARY INFORMATION: This notice is published as part of the National Park Service's administrative responsibilities under NAGPRA. The determinations in this notice are the sole responsibility of the MDAH. The National Park Service is not responsible for the determinations in this notice. Additional information on the determinations in this notice, including the results of consultation, can be found in the inventory or related records held by the MDAH.

Description

On July 30, 2021, the MDAH acquired the following collections from the University of Mississippi.

At an unknown date, human remains representing, at minimum, five individuals were removed from the Walls (22DS500) and Woodlyn (22DS517) sites in DeSoto County, MS. The one associated funerary object is one lot faunal bone.

In 1990, two individuals, at minimum, were removed from Meadowbrook site (22LE912) in Lee County, MS. The one associated funerary object is one lot of burial matrix.

In 2001, two individuals, at minimum, were removed from Hollywood (22TU500) and Perry (22TU514) in Tunica County, MS. The one associated funerary object is one lot of ceramics.

At an unknown date, one individual, at minimum, was removed from Ingomar (22UN500) in Union County, MS. The one associated funerary object is one lot of faunal bone.

At an unknown date, one individual, at minimum, was removed from “22DS517 or CO19 or Grenada Lake Survey” in an unknown county, MS. The three associated funerary objects include one lot of faunal bone, one lot of ceramics, and one lot of matrix.

Cultural Affiliation

The human remains and associated funerary objects in this notice are connected to one or more identifiable earlier groups, Tribes, peoples, or cultures. There is a relationship of shared group identity between the identifiable earlier groups, Tribes, peoples, or cultures and one or more Indian Tribes or Native Hawaiian organizations. The following types of information were used to reasonably trace the relationship: archeological information, biological information, and geographical information.

Determinations

Pursuant to NAGPRA and its implementing regulations, and after consultation with the appropriate Indian Tribes and Native Hawaiian organizations, the MDAH has determined that:

• The human remains described in this notice represent the physical remains of 11 individuals of Native American ancestry.

• The seven objects described in this notice are reasonably believed to have been placed with or near individual human remains at the time of death or later as part of the death rite or ceremony.

• There is a relationship of shared group identity that can be reasonably traced between the human remains and associated funerary objects described in this notice and the Alabama-Coushatta Tribe of Texas (previously listed as Alabama-Coushatta Tribes of Texas); Alabama-Quassarte Tribal Town; Coushatta Tribe of Louisiana; Eastern Band of Cherokee Indians; Miami Tribe of Oklahoma; Mississippi Band of Choctaw Indians; Quapaw Nation (previously listed as The Quapaw Tribe of Indians); The Chickasaw Nation; The Choctaw Nation of Oklahoma; The Muscogee (Creek) Nation; The Osage Nation (previously listed as Osage Tribe); and the Tunica-Biloxi Indian Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects described in this notice to a requestor may occur on or after August 15, 2022. If competing requests for repatriation are received, the MDAH must determine the most appropriate requestor prior to repatriation. Requests for joint repatriation of the human remains and associated funerary objects are considered a single request and not competing requests. The MDAH is responsible for sending a copy of this notice to the Indian Tribes and Native Hawaiian organizations identified in this notice.

Authority: Native American Graves Protection and Repatriation Act, 25 U.S.C. 3003, and the implementing regulations, 43 CFR 10.9, 10.10, and 10.14.

Dated: July 6, 2022.
Melanie O'Brien,
Manager, National NAGPRA Program.

[FR Doc. 2022-15041 Filed 7-13-22; 8:45 am]

BILLING CODE 4312-52-P